DEPARTMENT OF COMMERCE

National Institute of Standareds and Technology

[Docket No. 981028268-9247-02]

RIN No. 0693-ZA-23

Announcing Approval of Federal Information Processing Standard (FIPS) 186-2, Digital Signature Standard (DSS)

AGENCY: National Institute of Standards and Technology (NIST), Commerce.

ACTION: Notice.

SUMMARY: The Secretary of Commerce approved Federal Information Processing Standard 186-2, Digital Signature Standard (DSS), which supersedes Federal Information Processing Standard (FIPS) 186-1, Digital Signature Standard (DSS), FIPSs 186-2 expands FIPS 186-1 by specifying an additional voluntary industry standard for generating and verifying digital signatures. This action will enable Federal agencies to use the Digital Signature Algorithm (DSA), which was originally the single approved technique for digital signatures, as well as two new ANSI standards that were developed for the financial community. These new standards are ANSI X9.31, Digital Signature Using Reversible Public Key Cryptography, and ANSI X9.62, Elliptic Curve Digital Signature Algorithm (ECDSA).

EFFECTIVE DATE: This standard is effective June 27, 2000.

FOR FURTHER INFORMATION CONTACT: Ms. Elaine Barker (301) 975-2911, National Institute of Standards and Technology, 100 Bureau Drive, STOP 8930, Gaithersburg, MD 20899-8930.

Specifications for FIPS 186-2 are available on NIST Web page: <http://csrc.nist.gov/encryption>.

Copies of ANSI X9.31, Digital Signatures Using Reversible Public Key Cryptography, and ANSI X9.62, Elliptic Curve Digital Signature Algorithm (ECDSA) are available from the American Bankers Assoc./DC, X9 Customer Service Dept. P.O. Box 79064, Baltimore, MD 21279-0064; telephone 1-800-338-0626.

SUPPLEMENTARY INFORMATION: Under Section 5131 of the Information Technology Management Reform Act of 1996 and the Computer Security Act of 1987, the Secretary of Commerce is authorized to approve standards and guidelines for the cost effective security and privacy of sensitive information processed by federal computer systems. In May 1994, the Secretary of Commerce approved FIPS 186, Digital Signature Standard (DSS), which specified the Digital Signature Algorithm (DSA) as the single technique for the generation and verification of digital signatures. In 1997 NIST solicited comments on augmenting FIPS 186 with other digital signature techniques including the Rivest-Shamir-Adleman (RSA) and the elliptic curve technique. The comments received by NIST supported adding both techniques to FIPS 186. Both techniques were being considered by the financial services industry as voluntary industry standards.

On December 15, 1998, (FR Vol. 63, No. 240, pp 69049-51) NIST announced that the Secretary of Commerce had approved FIPS 186-1, Digital Signature Standard (DSS) as an interim final standard. FIPS 186-1 added the RSA digital signature technique, which had been approved as an industry standard (X9.31-1998, Digital Signatures Using Reversible Public Key Cryptography for the Financial Services Industry). The elliptic curve technique was not included in the interim final standard since it had not yet been approved by the American National Standards Institute (ANSI) as a voluntary industry standard.

The December 1998 Notice from NIST invited comments from public, academic and research communities, manufacturers, voluntary standards organizations, and Federal, state, and local government organizations concerning the specification of two techniques (DSA and ANSI X9.31-1998) for the generation and verification of digital signatures. That Notice also referred to the elliptic curve technique, which NIST had expected to be approved by ANSI as a voluntary industry standard. In addition to being published in the Federal Register, the Notice was posted on the NIST Web pages; information was provided for submission of electronic comments. NIST received comments from 15 private sector organizations and individuals, and from two federal government organizations. The comments supported the addition of the ANSI X9.31 standard, as well as the addition of the elliptic curve technique to the Digital Signature Standard (DSS). NIST recommended that the Secretary of Commerce approve FIPS 186-2, which includes the DSA, ANSI X9.31, and the elliptic curve technique, which has now been approved as ECDSA, under ANSI X9.62, Elliptic Curve Digital Signature Algorithm. Other comments supported the continued use of another RSA signature algorithm that is specified by PKCS#1. The algorithm specified in PKCS#1 does not interoperate with the algorithm specified in ANSI X9.31. FIPS 186-2 allows for the continued acquisition of implementations of PKCS#1 for a transition period of eighteen months from the date of approval of this standard, which will enable federal agencies to plan for the acquisition of implementations of the algorithms promulgated by FIPS 186-2.

Dated: February 8, 2000.
Karen H. Brown,
Deputy Director, NIST.

[FR Doc. 00-3450 Filed 2-14-00; 8:45 am]

BILLING CODE 3510-CN-M